NATIONAL FOUNDATION ON THE ARTS AND HUMANITIES

Institute of Museum and Library Services, Office of Museum Services; Proposed Collection, Comment Request; Technology and Digitization Surveys

AGENCY: Institute of Museum and Library Services

ACTION: Notice.

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed Technology and Digitization Surveys.

A copy of the proposed information collection request can be obtained by contacting the individual listed below in the addressee section of this notice.

DATES: Written comments must be submitted to the office listed in the addressee section below on or before July 17, 2000.

• IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Dr. Rebecca Danvers, Director of the Office of Research and Technology, Institute of Museum and Library Services, 1100 Pennsylvania Ave., NW., Room 802, Washington, DC 20506. Dr. Danvers can be reached on Telephone: 202-606-2478 Fax: 202-606-1077 or at rdanvers@imls.fed.us.

SUPPLEMENTARY INFORMATION: The Institute of Museum and Library Services is an independent Federal grant-making agency. The IMLS provides a variety of grant programs to assist the nation's museums and libraries in improving their operations and enhancing their services to the public. Museums and libraries of all sizes and types may receive support from IMLS programs. The Museum and Library Services Act of 1996 includes a strong emphasis on supporting library services through the use of technology and on assisting museums in their educational role and in modernizing their methods and facilities. This solicitation is to develop plans to collect information to assist IMLS in understanding the current status and capacity of museums and libraries to participate in national networks to deliver educational resources to students, life-long learners, underserved populations, and the general public.

II. Current Actions

The core duties of the Institute of Museum and Library Services, as stated in its strategic plan, are to promote excellence in library services and to promote access to museum and library services for a diverse public. This goal will be accomplished in part by promoting access to learning and information resources held by museums and libraries through electronic linkages. IMLS is seeking assistance in developing specific plans to collect information from the US library and museum communities to assess the digitization readiness and capacity of libraries and the technological readiness and capacity of museums. These information collections will be developed based on the varying characteristics of each community. A great deal of information has been collected on the internet access of libraries for internal and public access. The information IMLS collects should build on but not duplicate existing or ongoing collections.

Agency: Institute of Museum and Library Services.

Title: Museum Technology Survey.

OMB Number: Agency Number: 3137.

Frequency: Once.

Affected Public: museums and museum organizations.

Number of Respondents: 650.

Estimated Time Per Respondent: ½ hour.

Total Burden Hours: 325.

Total Annualized Capital/Startup Costs: 0.

Total Annual Costs: 0.

Agency: Institute of Museum and Library Services.

Title: Library Digitization Survey.

OMB Number: Agency Number: 3137.

Frequency: Once.

Affected Public: Libraries and library organizations.

Number of Respondents: 1000.

Estimated Time Per Respondent: 1 hour.

Total Burden Hours: 1000.

Total Annualized Capital/Startup Costs: 0.

FOR FURTHER INFORMATION CONTACT: Mamie Bittner, Director of Public and Legislative Affairs, Institute of Museum and Library Services, 1100 Pennsylvania Avenue, NW., Washington, DC 20506, telephone (202) 606-4648.

Dated: May 8, 2000.
Mamie Bittner,
Director of Public and Legislative Affairs.

[FR Doc. 00-12282 Filed 5-15-00; 8:45 am]

BILLING CODE 7036-01-M